ARCHITECTURAL AND TRANSPORTATION BARRIERS COMPLIANCE BOARD

Meetings

AGENCY: Architectural and Transportation Barriers Compliance Board.

ACTION: Notice of meetings.

SUMMARY: The Architectural and Transportation Barriers Compliance Board (Access Board) plans to hold its regular committee and Board meetings in Washington, DC, Monday through Wednesday, September 10-12, 2012 on the times and location listed below.

DATES: The schedule of events is as follows:

Monday, September 10, 2012

10:30 a.m.-5 p.m. Ad Hoc Rulemaking Committees: Closed to Public

Tuesday, September 11, 2012

9:30-11 a.m. Ad Hoc Committee on Frontier Issues

11-Noon Planning and Evaluation Committee

1:30-3:30 p.m. Technical Programs Committee

4-4:30 p.m. Budget Committee

Wednesday, September 12, 2012

9:30 a.m.-Noon Ad Hoc Rulemaking Committees: Closed to Public

1:30-3 p.m. Board Meeting

ADDRESSES: Meetings will be held at the Access Board Conference Room, 1331 F Street NW., suite 800, Washington, DC 20004.

FOR FURTHER INFORMATION CONTACT: For further information regarding the meetings, please contact David Capozzi, Executive Director, (202) 272-0010 (voice); (202) 272-0054 (TTY).

SUPPLEMENTARY INFORMATION: At the Board meeting scheduled on the afternoon of Wednesday, September 12, the Access Board will consider the following agenda items:

• Approval of the draft July 11, 2012 meeting minutes (vote)

• Planning and Evaluation Committee Report

• Technical Programs Committee Report

• Budget Committee Report

• Ad Hoc Committee Reports

• Executive Director's Report

• Public Comment, Open Topics

All meetings are accessible to persons with disabilities. An assistive listening system, computer assisted real-time transcription (CART), and sign language interpreters will be available at the Board meeting and committee meetings. Persons attending Board meetings are requested to refrain from using perfume, cologne, and other fragrances for the comfort of other participants (see www.access-board.gov/about/policies/fragrance.htm for more information).

David M. Capozzi,
Executive Director.

[FR Doc. 2012-20807 Filed 8-23-12; 8:45 am]

BILLING CODE 8150-01-P